FEDERAL COMMUNICATIONS COMMISSION

47 CFR Part 73

[MB Docket No. 18-23; FCC 18-20]

Elimination of Obligation To File Broadcast Mid-Term Report (Form 397) Under Section 73.2080(f)(2)

AGENCY: Federal Communications Commission.

ACTION: Propose rule; correction.

SUMMARY: This document corrects the preamble to a proposed rule published in the Federal Register on March 21, 2018 regarding the EEO Broadcast Mid-Term Report. The comment periods in the DATES section of the proposed rule published on March 21, 2018, inaccurately reflected a 60-day comment period and 90-day reply comment period, instead of the 30-day comment, 45-day reply comment deadline stated in the proposed rule. Any comments made before this correction is published will be considered.

DATES: Comments are due on or before April 30, 2018; reply comments are due on or before May 15, 2018.

ADDRESSES: You may submit comments, identified by MB Docket No. 18-20, by any of the following methods:

• Federal Communications Commission's website: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's

• Secretary, Office of the Secretary, Federal Communications Commission.

• People With Disabilities: Contact the FCC to request reasonable accommodations (accessible format documents, sign language interpreters, CART, etc.) by email: FCC504@fcc.gov or phone: (202) 418-0530 or TTY: (202) 418-0432. For detailed instructions for submitting comments and additional information on the rulemaking process, see the SUPPLEMENTARY INFORMATION section of this document.

FOR FURTHER INFORMATION CONTACT: For additional information, contact Jonathan Mark, Jonathan.Mark@fcc.gov, of the Media Bureau, Policy Division, (202) 418-3634. Direct press inquiries to Janice Wise at (202) 418-8165.

Correction: In the Federal Register of March 21, 2018, in FR Doc. 2018-05726, on page 12313, in the third column, correct the DATES caption to read:

DATES: Comments are due on or before April 30, 2018; reply comments are due on or before May 15, 2018.

Dated: March 28, 2018.
Federal Communications Commission.
Katura Jackson,
Federal Register Liaison Officer, Office of the Secretary.

[FR Doc. 2018-06599 Filed 3-30-18; 8:45 am]

BILLING CODE 6712-01-P